DEPARTMENT OF COMMERCE

Bureau of the Census

[Docket Number 040421123-4123-01]

American Community Survey Data Products

AGENCY: Bureau of the Census, Commerce.

ACTION: Notice and request for comments.

SUMMARY: The Bureau of the Census (Census Bureau) is proposing to revise and expand the data products it produces from the American Community Survey (ACS), and is requesting comments from current and potential future users of ACS data products to help guide the redesign of these products. Our goal is to publish preliminary versions of the new data products by mid-year 2005 and to give data users another opportunity to comment further before the redesigned products are in final form. The ACS has been under development since 1996. Several ACS data products have been released every year since 1997. With full-scale implementation scheduled for July 2004, we are proposing significant enhancements to the ACS data products that the Census Bureau will produce every year beginning in 2006.

DATES: Written comments must be submitted on or before July 14, 2004.

ADDRESSES: Direct all written comments to the Director, U.S. Census Bureau, Room 2049, Federal Building 3, Washington, DC 20233-0101.

FOR FURTHER INFORMATION CONTACT: Kenneth R. Bryson, Program Analyst, Outreach and Analysis Staff, Office of the Associate Director for Decennial Census, on (301) 763-1911, or by e-mail at kenneth.r.bryson@census.gov.

SUPPLEMENTARY INFORMATION: The ACS is a very large nationwide survey that will collect and publish data about the demographic, social, economic, and housing characteristics of the population. Full-scale data collection will begin with the mail-out to 250,000 addresses at the end of June 2004. The Census Bureau plans to release a set of redesigned data products from the 2005 ACS, the first full year of data collection, in the summer of 2006. While some of the data products will resemble those from the development phase of the ACS, others will be new or redesigned.

Census Bureau working groups have sought to improve the ACS data products by taking into account the previous comments and suggestions of data users. We have developed a preliminary version of the revised suite of data products and are now asking for feedback from public data users.

We are requesting public comments on the current data products and on the proposed new products. In particular, the Census Bureau is looking for feedback about the basic concept of each product and its usefulness to you. We welcome all comments and suggestions about how the product could be improved.

A special link on the ACS Web site (http://www.census.gov/acs/www/product_review/) will enable you to view examples of current and proposed data products. Current ACS data products are as follows:

• Base Tables (previously known as Detailed Tables)—Simple descriptive tabulations of basic concepts and variables, similar to tables in Summary File 3 from Census 2000. Summary File 3 contains tables of sample items from the long form of Census 2000.

• Tabular Profiles—Key summary measures, derived measures (e.g., medians), and collapsed distributions of variables selected from the Base Tables.

• Narrative Profiles—Short prose narratives with simple graphs based on some of the summary information in the Tabular Profiles.

• Geographic Ranking Tables—Tables and related graphs that show the rank order of geographic areas on a key statistics or derived measure.

In addition to retaining the current data products above, the Census Bureau proposes to offer the following new products:

• Subject Tables—These are similar to the Census 2000 Quick Tables, and like the Quick Tables, they are derived from the Base Tables. Quick Tables and Subject Tables are predefined tables with frequently requested information on a single topic for a single geographic area.

• Subpopulation Profiles—This new product would provide certain characteristics from the Tabular Profiles for a specific race or ethnic group (e.g., Alaska Natives) or population subgroup (e.g., people ages 60 and over).

• Thematic Maps—Thematic maps are similar to Geographic Ranking Tables. They have the added advantage of visually displaying on a map the geographic variation of a key summary or derived measure.

• Analytic Reports (in an early development phase)—These could be short documents, two to three pages, on a single topic or theme, or they could be longer documents covering several topics or the entire content of the survey.

Please go to the ACS Web site to review each data product in detail. If you have questions about any of the data products, please contact the individual listed in the FOR FURTHER INFORMATION CONTACT section of this notice.

Paperwork Reduction Act

Notwithstanding any other provision of law, no person is required to respond to, nor shall a person be subject to a penalty for failure to comply with, a collection of information subject to requirements of the Paperwork Reduction Act (PRA), unless that collection of information displays a current, valid Office of Management and Budget (OMB) control number. In accordance with the PRA, 44 U.S.C., Chapter 35, the OMB approved the ACS survey under OMB Control Number 0607-0810. We will furnish report forms to organizations included in the survey, and additional copies will be available upon written request to the Director, U.S. Census Bureau, Washington, DC 20233-0101.

Dated: May 7, 2004.
Hermann Habermann,
Deputy Director, Bureau of the Census.

[FR Doc. 04-10757 Filed 5-13-04; 8:45 am]

BILLING CODE 3510-07-P